DEPARTMENT OF AGRICULTURE

Forest Service

Tonto National Forest; Pinal County, AZ; Resolution Copper Project and Land Exchange Environmental Impact Statement

AGENCY: Forest Service, USDA.

ACTION: Notice of Extension of Public Scoping Period for the Resolution Copper Project and Land Exchange Environmental Impact Statement.

SUMMARY: The Tonto National Forest (TNF) is extending the public scoping period for the Resolution Copper Project and Land Exchange environmental impact statement (EIS). The TNF previously published a notice of intent to prepare an EIS as well as a notice of public scoping in the Federal Register on March 18, 2016 [81 FR 14829]. The previous notice provided for public scoping through May 17, 2016.

DATES: Numerous individuals and several organizations requested an extension of the public scoping period, as well as additional public scoping meetings. The TNF Forest Supervisor has decided to accommodate these requests by extending the public scoping period through July 18, 2016 and holding one additional public scoping meeting on June 9, 2016. Comments concerning the scope of the analysis must be received by July 18, 2016.

ADDRESSES: Send written comments to: Resolution EIS Comments, P.O. Box 34468, Phoenix, AZ 85067-4468. Comments may also be sent via email to: Comments@resolutionmineeis.us, submitted via Web site at www.resolutionmineeis.us, or submitted by leaving a verbal message at 1-866-546-5718.

Written and oral comments may also be submitted during the additional public scoping meeting, which will be held at the Central Arizona College San Tan Campus 3736 E. Bella Vista Rd., San Tan Valley, AZ 85143. The public scoping meeting will be held on June 9, 2016 at 5:00—8:00 p.m.

FOR FURTHER INFORMATION CONTACT: Mark Nelson, Project Manager, at 602-225-5222 or mrnelson@fs.fed.us during normal business hours.

SUPPLEMENTARY INFORMATION: Comments sought by the TNF include specific comments to the proposed action, appropriate information that could be pertinent to analysis of environmental effects, identification of significant issues, and identification of potential alternatives. It is important that reviewers provide their comments at such times and in a manner in which they are useful to the agency's preparation of the EIS. Although comments are welcome at any time during the NEPA review, they will be most useful to us if they are received by July 18, 2016. Comments should clearly articulate the reviewer's concerns. Comments received in response to this solicitation, including names and addresses of those who comment, will be part of the public record for this proposed action. Comments submitted anonymously will be accepted and considered; however, anonymous comments will not provide the agency with the ability to provide the respondent with subsequent environmental documents.

Dated: May 16, 2016.
Neil Bosworth,
Forest Supervisor.

[FR Doc. 2016-12334 Filed 5-24-16; 8:45 am]

BILLING CODE 3411-15-P.